Title 3—

The President

Executive Order 13935 of July 9, 2020

White House Hispanic Prosperity Initiative

By the authority vested in me as President by the Constitution and the laws of the United States of America, and in order to improve Hispanic Americans' access to educational and economic opportunities, it is hereby ordered as follows:

Section 1. Purpose. The success of Hispanic Americans is integral to the economic future of our country. As more than 60 million Hispanics live in the United States today, Hispanics are the largest minority group in the country. Hispanics are also the Nation's youngest major racial or ethnic group. Generations of Hispanics constituting different backgrounds and cultures have contributed to building a strong and prosperous America. Their collective contributions continue a legacy of inspiration that is a cherished part of the American experience.

While we celebrate the many ways Hispanic Americans have contributed to our Nation, we also recognize that they face challenges in accessing educational and economic opportunities. In the last 3 years, my Administration has supported school choice, Hispanic-Serving Institutions (HSIs), and new career pathways, including apprenticeships and work-based learning initiatives, because quality education options offering multiple pathways to economic success are critical to developing our Nation's potential for the jobs of tomorrow. My Administration has also supported investment in economically distressed communities, including through Opportunity Zones, and economic opportunities for small and minority-owned businesses. The initiative set forth in this order increases emphasis on the connection between educational and economic opportunities, and exploring and promoting opportunities for Hispanic Americans, both through and outside traditional education options, that lead to economic prosperity. Today, Americans have more paths to prosperity than any previous generation, and it is necessary to ensure that Hispanic Americans have every opportunity to access these pathways and to fulfill their educational and economic aspirations.

Sec. 2. White House Hispanic Prosperity Initiative. There is established the White House Hispanic Prosperity Initiative (Initiative), housed in the Department of Education (Department).

(a) The mission of the Initiative shall be to improve access by Hispanic Americans to educational and economic opportunities. Consistent with its mission, the Initiative shall:

(i) identify and promote educational and workforce development practices that have improved educational, professional, and economic outcomes for Hispanic Americans;

(ii) encourage private-sector initiatives and foster public-private partnerships that improve access to educational and economic opportunities for Hispanic Americans;

(iii) develop a national network of individuals, organizations, and communities, with which to consult and collaborate regarding practices and policies that improve access to educational and economic opportunities for Hispanic Americans;

(iv) monitor the development, implementation, and coordination of Federal Government educational, workforce, and business development programs designed to improve outcomes for Hispanic Americans; and

(v) advise the President, through the Secretary of Education (Secretary), on issues of importance to Hispanic Americans and policies relating to Hispanic Americans' prosperity.

(b) The Initiative shall be led by an Executive Director, designated by the Secretary. The Executive Director shall also serve as Executive Director of the Commission created by section 3 of this order. In addition to leading the work of the Initiative, the Executive Director shall coordinate the work of, and provide administrative support for, the Commission. As appropriate, the Department shall provide the Initiative with staff, resources, and administrative support, to the extent permitted by law and subject to the availability of appropriations.

(c) All executive departments and agencies (agencies) shall, to the extent permitted by law, provide such information, support, and assistance to the Initiative as the Secretary may request.

(d) The Initiative, acting through the Executive Director, shall provide regular reports on its activities to appropriate officials in the Executive Office of the President, including the Director of the Office of Management and Budget, the Director of the Office of Science and Technology Policy, the Assistant to the President for the Office of American Innovation, the Assistant to the President for the Office of Economic Initiatives, the Assistant to the President for Domestic Policy, the Director of the Office of Public Liaison, and the Director of Intergovernmental Affairs.

(e) As part of the Initiative, there is established an Interagency Working Group (Working Group) to collaborate regarding resources and opportunities available across the Federal Government to increase educational and economic opportunities for Hispanic Americans. The Working Group shall also serve as a channel for communication between the Initiative and other agencies.

(i) The Working Group shall be chaired by the Executive Director of the Initiative and shall consist of a senior official from the Domestic Policy Council, the Office of American Innovation, the Office of Public Liaison, and each agency that develops or implements policies relating to Hispanic American prosperity, as identified by the Secretary.

(ii) The Department shall provide the Working Group with administrative support to the extent permitted by law and subject to the availability of appropriations.

Sec. 3. The President's Advisory Commission on Hispanic Prosperity. There is established in the Department the President's Advisory Commission on Hispanic Prosperity (Commission).

(a) The Commission shall be composed of not more than 20 members, who shall be appointed by the President. The Commission may include individuals from outside the Federal Government with relevant experience or subject matter expertise in promoting educational opportunities and economic success in the Hispanic American community. The Commission shall also include the following officers, or their designees:

(i) the Secretary of Commerce;

(ii) the Secretary of Labor;

(iii) the Secretary of Housing and Urban Development;

(iv) the Secretary of Education; and

(v) the Administrator of the Small Business Administration.

(b) The functions of the Commission shall be to:

(i) promote pathways to in-demand jobs for Hispanic American students, including apprenticeships, internships, fellowships, mentorships, and work-based learning initiatives;

(ii) strengthen HSIs, as defined by the Higher Education Act of 1965, as amended, and increase the participation of the Hispanic American community, Hispanic-serving school districts, and HSIs in the programs of the Department and other agencies;

(iii) promote local-based and national private-public partnerships to promote high-quality education, training, and economic opportunities for Hispanic Americans;

(iv) promote awareness of educational opportunities for Hispanic American students, including options to enhance school choice, personalized learning, family engagement, and civics education;

(v) promote public awareness of the educational and training challenges that Hispanic Americans face and the causes of these challenges;

(vi) monitor changes in Hispanic Americans' access to educational and economic opportunities; and

(vii) advise the President and the Initiative on educational and economic opportunities for the Hispanic American community.

(c) The Commission shall periodically report to the President, through the Secretary and after consulting with the Executive Director, on progress in providing Hispanic American students, workers, and communities with increased access to educational and economic opportunities. The reports shall identify efforts of agencies to improve educational and economic opportunities for Hispanic Americans. The reports shall also include, as appropriate, recommendations for improving Federal education, workforce, small business, and other programs.

(d) The Commission shall have a Chair and two Vice Chairs, designated by the President from among the members of the Commission. The Chair and Vice Chairs shall work with the Executive Director to convene regular meetings of the Commission, determine its agenda, and direct its work, consistent with this order.

(i) The Department shall provide funding and administrative support for the Commission, to the extent permitted by law and subject to the availability of appropriations.

(ii) Members of the Commission shall serve without compensation but shall be reimbursed for travel expenses, including per diem in lieu of subsistence, as authorized by law for persons serving intermittently in the Government service (5 U.S.C. 5701-5707).

(iii) Insofar as the Federal Advisory Committee Act, as amended (5 U.S.C. App.), may apply to the Commission, any functions of the President under that Act, except that of reporting to the Congress, shall be performed by the Secretary, in accordance with the guidelines issued by the Administrator of General Services.

(e) The Commission shall terminate 2 years after the date of this order unless extended by the President.

Sec. 4. General Provisions. (a) This order supersedes Executive Order 13555 of October 19, 2010 (White House Initiative on Educational Excellence for Hispanics), and section 1(u) of Executive Order 13889 of September 27, 2019 (Continuance of Certain Federal Advisory Committees).

(b) Nothing in this order shall be construed to impair or otherwise affect:

(i) the authority granted by law to an executive department or agency, or the head thereof; or

(ii) the functions of the Director of the Office of Management and Budget relating to budgetary, administrative, or legislative proposals.

(c) This order shall be implemented consistent with applicable law and subject to the availability of appropriations.

(d) This order is not intended to, and does not, create any right or benefit, substantive or procedural, enforceable at law or in equity by any party against the United States, its departments, agencies, or entities, its officers, employees, or agents, or any other person.

THE WHITE HOUSE,

July 9, 2020.

[FR Doc. 2020-15338

Filed 7-13-20; 11:15 am]

Billing code 3295-F0-P